CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Application for the President's Higher Education Community Service Honor Roll to the Office of Management and Budget (OMB) for review and approval in accordance with the Paperwork Reduction Act of 1995, Pub. L. 104-13, (44 U.S.C. Chapter 35). Copies of this ICR, with applicable supporting documentation, may be obtained by calling the Corporation for National and Community Service, Mr. Robert Davidson at (202) 606-6906. Individuals who use a telecommunications device for the deaf (TTY-TDD) may call (202) 606-3472 between 8:30 a.m. and 5 p.m. eastern time, Monday through Friday.

ADDRESSES: Comments may be submitted, identified by the title of the information collection activity, to the Office of Information and Regulatory Affairs, Attn: Ms. Rachael Potter, OMB Desk Officer for the Corporation for National and Community Service, by any of the following two methods within 30 days from the date of publication in this Federal Register:

(1) By fax to: (202) 395-6974, Attention: Ms. Rachael Potter, OMB Desk Officer for the Corporation for National and Community Service; and

(2) Electronically by e-mail to: Rachael_F._Potter@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on January 5, 2006. This comment period ended March 6, 2006. Several commenters expressed appreciation for the effort to recognize higher education community service. One commenter suggested that information be collected about the service and donations of a college's alumni, and another sought collection of detailed information about the hurricane relief agencies to which colleges and students made donations. In the interest of keeping the application as short and easy to complete as possible, these questions have not been added. One commenter suggested that the application guidance state that applicants need fill out “only as much as they can.” In order to minimize burden, several questions have been eliminated; and, for some questions, an “information not available” option has been provided. One commenter asked that the application request only “actual data,” not estimates, because “responsible institutions should be able to provide actual numbers.” Recognizing that not all colleges have established systems for collecting data on student service, the application continues to request estimates rather than insist on verifiable data. However, the application guidance requests that estimates be based on the best information available. One commenter suggested that the application provide an example in order to give applicants a sense of what a good project summary should include. Applicants will be directed to examples of good project summaries that will be provided on the Corporation's Web site.

Description: The President's Higher Education Community Service Honor Roll and Awards program supports the President's Call to Service and the Corporation's strategic goals, especially the goal of significantly increasing community service by college students. The Application for the President's Higher Education Community Service Honor Roll will collect information from institutions of higher education about student community service activities, and—in this first year especially—hurricane relief activities. Data from this application will provide the basis for a national honor roll and awards program designed to promote awareness of higher education community service efforts and to inspire expanded and more effective service efforts in the future. The initial deadline for institutions to submit applications is July 31, 2006, based on information for the year ending June 30. It is expected that a similar application/information collection activity will be repeated annually, with a similar annual deadline.

The estimated number of respondents and estimated burden hours reflected in this notice are lower than those in the 60-day notice. These estimates, as reflected below, properly should be based on the number of anticipated applicants rather than the number of eligible institutions.

Type of Review: New.

Agency: Corporation for National and Community Service.

Title: Application for the President's Higher Education Community Service Honor Roll.

OMB Number: None.

Agency Number: None.

Affected Public: All U.S. degree-granting colleges and universities interested in being recognized for student community service, including hurricane relief, activities.

Total Respondents: 1,000 estimated.

Frequency: Annual.

Average Time Per Response: 1 hour.

Estimated Total Burden Hours: 1,000 hours.

Total Burden Cost (capital/startup): None.

Total Burden Cost (operating/maintenance): None.

Dated: March 6, 2006.
Amy Cohen,
Director, Learn and Serve America.

[FR Doc. E6-4512 Filed 3-28-06; 8:45 am]

BILLING CODE 6050-$$-P